DEPARTMENT OF COMMERCE

National Oceanic and Atmospheric Administration

[I.D. 101700C]

Fisheries of the Northeastern United States; Atlantic Surf Clam and Ocean Quahog Fisheries; 2001 Cage Tags

AGENCY: National Marine Fisheries Service (NMFS), National Oceanic and Atmospheric Administration (NOAA), Commerce.

ACTION: Notice of vendor to provide fishing year 2001 cage tags.

SUMMARY: NMFS informs surf clam and ocean quahog allocation owners that they will be required to purchase their fishing year 2001 cage tags from a vendor.

ADDRESSES: Written inquiries may be sent to Walt Gardiner at: National Marine Fisheries Service, Northeast Regional Office, One Blackburn Drive, Gloucester, MA 01930-3799.

FOR FURTHER INFORMATION CONTACT: Walt Gardiner, Fishery Management Specialist, (978) 281-9326.

SUPPLEMENTARY INFORMATION: Federal Atlantic surf clam and ocean quahog fishery regulations at 50 CFR 648.75(b) authorize the Administrator, Northeast Region, NMFS, to specify in the Federal Register a vendor from whom cage tags, required under the Atlantic Surf Clam and Ocean Quahog Fishery Management Plan, must be purchased. National Band and Tag Company of Newport, KY, is the authorized vendor of cage tags required for the year 2001 Federal surf clam and ocean quahog fisheries. Detailed instructions for purchasing these cage tags will be provided in a letter to allocation owners within the next several weeks.

Authority: 16 U.S.C. 1801 et seq.

Dated: October 21, 2000.
Bruce C. Morehead,
Acting Director, Office of Sustainable Fisheries, National Marine Fisheries Service.

[FR Doc. 00-27698 Filed 10-26-00; 8:45 am]

BILLING CODE: 3510-22 -S